NATIONAL TRANSPORTATION SAFETY BOARD

Sunshine Act Meetings

TIME AND DATE: 9:30 a.m., Tuesday, October 16, 2018.

PLACE: NTSB Conference Center, 429 L'Enfant Plaza SW, Washington, DC 20594.

STATUS: The one item is open to the public.

MATTERS TO BE CONSIDERED: 58470 Highway Accident Report—Pickup Truck Centerline Crossover Collision With Medium-Size Bus on US Highway 83, Concan, Texas, March 29, 2017.

CONTACT PERSON FOR MORE INFORMATION: Candi Bing at (202) 314-6403 or by email at bingc@ntsb.gov.

For Media Information Contact: Terry Williams at (202) 314-6100 or by email at terry.williams@ntsb.gov.

News Media Contact: Telephone: (202) 314-6100.

The press and public may enter the NTSB Conference Center one hour prior to the meeting for set up and seating.

Individuals requesting specific accommodations should contact Rochelle McCallister at (202) 314-6305 or by email at Rochelle.McCallister@ntsb.gov by Wednesday, September 19, 2018.

The public may view the meeting via a live or archived webcast by accessing a link under “News & Events” on the NTSB home page at www.ntsb.gov.

Schedule updates, including weather-related cancellations, are also available at www.ntsb.gov.

Dated: Friday, September 20, 2018.
Candi R. Bing,
Federal Register Liaison Officer.

[FR Doc. 2018-20896 Filed 9-24-18; 4:15 pm]

BILLING CODE 7533-01-P